DEPARTMENT OF COMMERCE

Bureau of Industry and Security

15 CFR Part 744

[Docket No. 070220040-7040-01]

RIN 0694-AD91

Addition of Entities to the Entity List

AGENCY: Bureau of Industry and Security, Commerce.

ACTION: Final rule.

SUMMARY: The Bureau of Industry and Security (BIS) is amending the Export Administration Regulations (EAR) to add two entities located in the United Arab Emirates (U.A.E.) to the Entity List. The Entity List is a compilation of end-users that present an unacceptable risk of using or diverting certain items to activities related to weapons of mass destruction. BIS requires a license for most exports or reexports to these entities and maintains the Entity List to inform the public of these license requirements.

EFFECTIVE DATE: This rule is effective: March 2, 2007.

FOR FURTHER INFORMATION CONTACT: Michael Rithmire, Export Administration Intelligence Liaison, Bureau of Industry and Security, Telephone: (202) 482-6105.

SUPPLEMENTARY INFORMATION :

Background

This rule makes the following revisions to the Export Administration Regulations (EAR):

Additions to the Entity List

Pursuant to 15 CFR 744.3(b), this rule amends Supplement No. 4 to part 744 (the Entity List) by adding two entities located in the U.A.E. to the Entity List. This notifies the public that a license is required for the export or reexport of all items subject to the EAR to: Bazaar Trading Co., No. 212 Baniyas Tower, Dubai, U.A.E. 6708; and Elmstone Trading L.L.C., P.O. Box 24896, Sharjah, U.A.E. License applications to export, reexport, or transfer (in-country) items subject to the EAR to these entities will be reviewed based on the license review standards for certain rocket systems and unmanned air vehicles end-uses found in § 744.3 of the EAR. Therefore, applications will be considered on a case-by-case basis to determine whether the export, reexport, or transfer would make a material contribution to the proliferation of certain rocket systems, or unmanned air vehicles. When an export, reexport or transfer is deemed to make a material contribution, the license will be denied.

Savings Clause

Shipments of items removed from eligibility for a License Exception or for export or reexport without a license (NLR) as a result of this regulatory action that were on dock for loading, on lighter, laden aboard an exporting or reexporting carrier, or en route aboard a carrier to a port of export or reexport on March 2, 2007, pursuant to actual orders for export or reexport to a foreign destination, may proceed to that destination under the previous eligibility for a License Exception or export or reexport without a license (NLR) so long as they are exported or reexported before April 2, 2007. Any such items not actually exported or reexported before midnight on April 2, 2007 require a license in accordance with this rule.

Since August 21, 2001, the Export Administration Act has been in lapse and the President, through Executive Order 13222 of August 17, 2001 (3 CFR, 2001 Comp. 783 (2002)), as extended most recently by the Notice of August 3, 2006, 71 FR 44551 (Aug. 7, 2006), has continued the EAR in effect under the International Emergency Economic Powers Act. BIS continues to carry out the provisions of the Act, as appropriate and to the extent permitted by law, pursuant to Executive Order 13222.

Rulemaking Requirements

1. This final rule has been determined to be not significant for purposes of Executive Order 12866.

2. Notwithstanding any other provision of law, no person is required to respond to, nor shall any person be subject to a penalty for failure to comply with, a collection of information subject to the requirements of the Paperwork Reduction Act, unless that collection of information displays a currently valid Office of Management and Budget Control Number. This rule involves a collection of information subject to the Paperwork Reduction Act of 1980 (44 U.S.C. 3501 et seq.). This collection has been approved by the Office of Management and Budget under control number 0694-0088, “Multi-Purpose Application,” which carries a burden hour estimate of 58 minutes for a manual or electronic submission. Send comments regarding these burden estimates or any other aspect of these collections of information, including suggestions for reducing the burden, to David Rostker, Office of Management and Budget (OMB), by e-mail to David_Rostker@omb.eop.gov, or by fax to (202) 395-7285; and to the Office of Administration, Bureau of Industry and Security, Department of Commerce, 14th and Pennsylvania Avenue, NW., Room 6883, Washington, DC 20230.

3. This rule does not contain policies with Federalism implications as that term is defined under Executive Order 13132.

4. The provisions of the Administrative Procedure Act requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Timothy Mooney, Office of Exporter Services, Bureau of Industry and Security, Department of Commerce, P.O. Box 273, Washington, DC 20044.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 3, 2006, 71 FR 44551 (August 7, 2006); Notice of October 27, 2006, 71 FR 64109 (October 31, 2006).

2. Supplement No. 4 to part 744 is amended immediately following the country of Syria, by adding, in alphabetical order, the country of United Arab Emirates and U.A.E. entities: “Bazaar Trading Co., No. 212 Baniyas Tower, Dubai, U.A.E. 6708”; and “Elmstone Trading L.L.C., P.O. Box 24896, Sharjah, U.A.E.”; and the License Requirement column, License Review Policy column and Federal Register Citation column for these entities, to read as follows.

Supplement No. 4 to Part 744—ENTITY LIST
Country | Entity | License Requirement | License Review Policy | Federal Register Citation
* * * * * * *
United Arab Emirates | Bazaar Trading Co., No. 212 Baniyas Tower, Dubai, U.A.E. 6708 | For all items subject to the EAR | See § 744.3(d) of this part | 72 FR [insert FR page number], March 2, 2007.
| Elmstone Trading L.L.C., P.O. Box 24896, Sharjah, U.A.E | For all items subject to the EAR | See § 744.3(d) of this part | 72 FR [Insert FR page number], March 2, 2007.

* * * * *

Dated: February 22, 2007.
Christopher A. Padilla,
Assistant Secretary for Export Administration.

[FR Doc. E7-3538 Filed 3-1-07; 8:45 am]

BILLING CODE 3510-33-P